INTERNATIONAL TRADE COMMISSION

[Investigation No. TA-204-8]

Lamb Meat:¹ Evaluation of the Effectiveness of Import Relief

¹ Lamb meat is provided for in subheadings 0204.10.00, 0204.22.20, 0204.23.20, 0204.30.00, 0204.42.20, and 0204.43.20 of the Harmonized Tariff Schedule of the United States.

AGENCY: United States International Trade Commission.

ACTION: Institution of an investigation and scheduling of a hearing under section 204(d) of the Trade Act of 1974 (19 U.S.C. 2254(d)) (the Act).

SUMMARY: Pursuant to section 204(d) of the Act, the Commission has instituted investigation No. TA-204-8, Lamb Meat: Evaluation of the Effectiveness of Import Relief, for the purpose of evaluating the effectiveness of the relief action imposed by the President on imports of fresh, chilled, and frozen lamb meat under section 203 of the Act, which terminated on November 15, 2001.

The President imposed the relief action on July 7, 1999, in the form of a tariff-rate quota (TRQ) following receipt of an affirmative injury determination and relief recommendation from the Commission on April 5, 1999. See Proclamation 7208 of July 7, 1999 (64 FR 37389, July 9, 1999), as modified by Proclamation 7214 of July 30, 1999 (64 FR 42265, August 4, 1999). The TRQ was imposed for a period of 3 years and 1 day but was terminated on November 15, 2001. In addition to implementing the TRQ, the President directed the Secretary of Agriculture to establish adjustment assistance programs to facilitate efforts of the domestic lamb industry to make a positive adjustment to import competition. On January 13, 2000, the Secretary of Agriculture announced a 3-year $100 million assistance package for sheep and lamb farmers (Lamb Meat Adjustment Assistance Program (LMAAP)) which continues. Further, on August 31, 2001, USTR announced it would provide an additional $42.7 million to assist the domestic lamb industry to continue adjusting to import competition. Section 204(d) of the Act requires the Commission, following termination of a relief action, to evaluate the effectiveness of the action in facilitating positive adjustment by the domestic industry to import competition. The Commission is required to submit a report on the evaluation made to the President and the Congress no later than 180 days after the day on which the relief action taken under section 203(a) of the Act has terminated.

For further information concerning the conduct of this investigation, hearing procedures, and rules of general application, consult the Commission's rules of practice and procedure, part 201, subparts A through E (19 CFR part 201), and part 206, subparts A and F (19 CFR part 206).

EFFECTIVE DATE: January 22, 2002.

FOR FURTHER INFORMATION CONTACT: Debra Baker (202-205-3180), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION: Participation in the investigation and service list.—Persons wishing to participate in the investigation as parties must file an entry of appearance with the Secretary to the Commission, as provided in section 201.11 of the Commission's rules, not later than 14 days after publication of this notice in the Federal Register. The Secretary will prepare a service list containing the names and addresses of all persons, or their representatives, who are parties to this investigation upon the expiration of the period for filing entries of appearance.

Public hearing.—As required by statute, the Commission has scheduled a hearing in connection with this investigation. The hearing will be held beginning at 9:30 a.m. on April 16, 2002, at the U.S. International Trade Commission Building, 500 E Street SW., Washington, DC. Requests to appear at the hearing should be filed in writing with the Secretary to the Commission on or before April 8, 2002. All persons desiring to appear at the hearing and make oral presentations should attend a prehearing conference to be held at 9:30 a.m. on April 11, 2002, at the U.S. International Trade Commission Building. Oral testimony and written materials to be submitted at the hearing are governed by sections 201.6(b)(2) and 201.13(f) of the Commission's rules. Parties must submit any request to present a portion of their hearing testimony in camera no later than 7 days prior to the date of the hearing.

Written submissions.—Each party is encouraged to submit a prehearing brief to the Commission. The deadline for filing prehearing briefs is April 10, 2002. Parties may also file posthearing briefs. The deadline for filing posthearing briefs is April 22, 2002. In addition, any person who has not entered an appearance as a party to the investigation may submit, on or before April 22, 2002, a written statement concerning the matters to be addressed in the Commission's report to the President. All written submissions must conform with the provisions of section 201.8 of the Commission's rules; any submissions that contain confidential business information must also conform with the requirements of section 201.6 of the Commission's rules. The Commission's rules do not authorize filing of submissions with the Secretary by facsimile or electronic means.

In accordance with section 201.16(c) of the Commission's rules, each document filed by a party to the investigation must be served on all other parties to the investigation (as identified by the service list), and a certificate of service must be timely filed. The Secretary will not accept a document for filing without a certificate of service.

Authority: This investigation is being conducted under the authority of section 204(d) of the Trade Act of 1974; this notice is published pursuant to section 206.3 of the Commission's rules.

Issued: January 23, 2002.
By order of the Commission.
Marilyn R. Abbott,
Acting Secretary.

[FR Doc. 02-2072 Filed 1-28-02; 8:45 am]

BILLING CODE 7020-02-P